DEPARTMENT OF HOMELAND SECURITY

[Docket No. DHS-2015-0017]

Notice of Public Workshop Regarding Information Sharing and Analysis Organizations

AGENCY: Office of Cybersecurity and Communications, National Protection and Programs Directorate, Department of Homeland Security.

ACTION: Notice of public workshop.

SUMMARY: This Notice announces a public workshop on July 30, 2015 to discuss Information Sharing and Analysis Organizations, Automated Threat Information Sharing, and Analysis Capabilities and Requirements, as related to Executive Order 13691, “Promoting Private Sector Cybersecurity Information Sharing” of February 13, 2015. This workshop builds off of the workshop held on June 9, 2015 at the Volpe Center in Cambridge, MA.

DATES: The workshop will be held on July 30, 2015, from 8:00 a.m. to 5:00 p.m. The meeting may conclude before the allotted time if all matters for discussion have been addressed.

ADDRESSES: The meeting location is Silicon Valley at San Jose State University—1 Washington Sq., San Jose, CA 95192. See SUPPLEMENTARY INFORMATION section for the address to submit written or electronic comments.

SUPPLEMENTARY INFORMATION: Executive Order 13691 can be found at: https://www.whitehouse.gov/the-press-office/2015/02/13/executive-order-promoting-private-sector-cybersecurity-information-shari.

FOR FURTHER INFORMATION CONTACT: If you have questions concerning the meeting, please contact ISAO@hq.dhs.gov or Michael A. Echols, Director, JPMO, Department of Homeland Security, michael.echols@dhs.gov.

Background and Purpose

On February 13, 2015, President Obama signed Executive Order 13691 intended to enable and facilitate “private companies, nonprofit organizations, and executive departments and agencies . . . to share information related to cybersecurity risks and incidents and collaborate to respond in as close to real time as possible.” The order addresses two concerns the private sector has raised:

• How can companies share information if they do not fit neatly into the sector-based structure of the existing Information Sharing and Analysis Centers (ISACs)?

• If a group of companies wants to start an information sharing organization, what model should they follow? What are the best practices for such an organization?

ISAOs may allow organizations to robustly participate in DHS information sharing programs even if they do not fit into an existing critical infrastructure sector, seek to collaborate with other companies in different ways (regionally, for example), or lack sufficient resources to share directly with the government. ISAOs may participate in existing DHS cybersecurity information sharing programs and contribute to near-real-time sharing of cyber threat indicators.

Information on Service for Individuals With Disabilities

For information on facilities or services for individuals with disabilities or to request special assistance at the public meeting, contact ISAO@hq.dhs.gov and write “Special Assistance” in the subject box or contact the meeting coordinator the FOR FURTHER INFORMATION CONTACT section of this notice.

Meeting Details

Members of the public may attend this workshop by RSVP only up to the seating capacity of the room. We plan to audio record the Workshop Panels that take place in the San Jose State University Ball Room and to make that audio recording available on the ISAO Web page DHS.gov/ISAO. A valid government-issued photo identification (for example, a driver's license) will be required for entrance to the building and meeting space. Those who plan to attend should RSVP through the link provided on the ISAO Web page DHS.gov/ISAO 7 days prior to the meeting. Requests made after July 23, 2015 might not be able to be accommodated.

We encourage you to participate in this meeting by submitting comments to the ISAO inbox ISAO@hq.dhs.gov, commenting orally, or submitting written comments to the DHS personnel attending the meeting who are identified to receive them.

Submitting Written Comments

You may also submit written comments to the docket using any one of the following methods:

(1) Federal eRulemaking Portal: http://www.regulations.gov. Although comments are being submitted to the Federal eRulemaking Portal, this is a tool to provide transparency to the general public, not because this is a rulemaking action.

(2) Email: ISAO@hq.dhs.gov. Include the docket number in the subject line of the message.

(3) Fax: 703-235-4981, Attn: Michael A. Echols.

(4) Mail: Michael A. Echols, Director, JPMO-ISAO Coordinator, NPPD, Department of Homeland Security, 245 Murray Lane, Mail Stop 0615, Arlington VA 20598-0615.

To avoid duplication, please use only one of these four methods. All comments must either be submitted to the online docket on or before July 20, 2015, or reach the Docket Management Facility by that date.

Authority: 6 U.S.C. 131-134; 6 CFR. 29; E.O. 13691.

Dated: June 23, 2015.
Andy Ozment,
Assistant Secretary, Cybersecurity and Communications, National Protection and Programs Directorate, Department of Homeland Security.

[FR Doc. 2015-16517 Filed 7-2-15; 8:45 am]

BILLING CODE 9110-9P-P